DEPARTMENT OF TRANSPORTATION

Federal Aviation Administration

14 CFR Part 71

[Docket No. FAA-2003-15471; Airspace Docket No. 03-AWA-6]

RIN 2120-AA66

Modification of the Minneapolis Class B Airspace Area; MN

AGENCY: Federal Aviation Administration (FAA), DOT.

ACTION: Final rule.

SUMMARY: This action modifies the current Minneapolis, MN, Class B airspace area to contain large turbine-powered aircraft during operations to the new Runway 17/35 and to address an increase in aircraft operations to and from the Minneapolis-St. Paul International (Wold-Chamberlain) Airport (MSP). The FAA is taking this action to enhance safety and improve the management of aircraft operations in the Minneapolis terminal area. Further, this action supports the FAA's national airspace redesign goal of optimizing terminal and en route airspace areas to reduce aircraft delays and improve system capacity.

DATES: Effective Date: 0901 UTC, February 16, 2006.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

Background

On November 24, 2003, the FAA published in the Federal Register a notice of proposed rulemaking (NPRM) to modify the Minneapolis Class B airspace area (68 FR 65859). The FAA proposed the action due to a significant growth in aircraft operations and the construction of a new runway (Runway 17/35) to accommodate the growth. The proposed modifications were designed to contain large turbine-powered aircraft within the MSP Class B airspace area and included expanding the lateral dimensions of the existing MSP Class B airspace area as well as increasing the vertical limits from 8,000 feet above mean sea level (MSL) to 10,000 feet MSL.

Subsequent to the issuance of the NPRM, the FAA's further analysis of airspace requirements revealed that additional airspace (beyond and below that airspace proposed in the NPRM) will be needed to contain large turbine'powered aircraft conducting approaches to the new Runway 35 within the MSP Class B airspace area. To provide the public an opportunity to comment on the additional required airspace, the FAA issued a supplemental notice of proposed rulemaking (SNPRM) that included a new area F (70 FR 43803). Area F reflects the additional airspace that the FAA determined will be needed, as well as changes suggested by the Air Line Pilots Association, International (ALPA) and the National Business Aviation Association, Inc. (NBAA) in response to the NPRM (see “Discussion of Comment” below).

Discussion of Comments

In response to the NPRM, the FAA received three comments.

The Aircraft Owners and Pilots Association (AOPA) expressed a concern that the dimensions of the MSP Class B airspace area should conform to the unique needs of users rather than conform to a national standard. They also expressed a concern that raising the vertical limits from 8,000 feet MSL to 10,000 feet MSL would “pose a serious operational limitation to pilots wishing to over fly” the MSP Class B airspace area. AOPA also expressed a desire for charted visual flight rules (VFR) flyways in the MSP terminal area.

The FAA has determined that some aircraft may have to fly farther or at lower or higher altitudes to remain clear of the modified MSP Class B airspace area; however, this is necessary to separate them from large turbine-powered aircraft arriving and departing MSP. The management of aircraft operations to the new runway will require several new arrival vector areas between the altitudes of 7,000 feet and 10,000 feet MSL over the MSP terminal area. Specifically, aircraft that currently proceed directly to MSP and then enter an east/west downwind pattern will be vectored to a downwind pattern via northbound and southbound paths located to the east and west of MSP. This change in traffic flow is needed to accommodate three arrival streams rather than the current practice of using two arrival streams. As a result of these new procedures, approximately 900 high-performance aircraft will be vectored to join arrival streams as far as 30 nautical miles (NM) from MSP between the altitudes of 7,000 and 10,000 feet MSL on a daily basis.

In response to AOPA's comment pertaining to VFR flyways, the FAA agrees that charted VFR flyways could minimize the impact on aircraft that choose to circumnavigate the MSP Class B airspace area. However, because VFR flyways are not addressed in a Class B rulemaking action, the FAA plans to develop and institute VFR flyways for the MSP terminal area through a separate, non-rulemaking process.

ALPA and the NBAA expressed concern that the “southeast cut-out” of the proposed Area E would result in aircraft not being contained in Class B airspace when operating on the extended final approach course to the new Runway 35. They suggest reducing the size of the cut-out by changing the western boundary of the proposed cut-out from the Gopher 170 radial to the Gopher 160 radial. The FAA agrees with this comment and has adopted the suggested modification.

The FAA received the following comments in response to the SNPRM:

AOPA again expressed a concern that raising the vertical limits of the MSP Class B airspace area from 8,000 feet MSL to 10,000 feet MSL would “pose a serious operational limitation to those pilots wishing to over fly” the MSP Class B airspace area and reiterated their desire for charted VFR flyways. They also mentioned that the ad hoc committee recommendations did not fully address their concerns. The FAA's response to AOPA's comments remains as stated previously in this document.

The FAA also received comments from two pilots in response to the SNPRM. They commented that they practice aerobatic maneuvers at and below 8,000 feet MSL approximately 15 NM west of the Flying Cloud Airport (between the cities of Belle Plaine and Cologne). They request that the FAA exclude the area that they practice in from the MSP Class B airspace area. While the FAA acknowledges that aerobatic operations in the area may be impacted, the FAA is not able to accommodate this request because the area between Belle Plaine and Cologne lies within the vector area for aircraft arriving MSP via a standard terminal arrival route from the southwest. Aircraft using this arrival route will operate as low as 7,000 feet MSL over the area between Belle Plaine and Cologne (approximately 25 to 28 NM west-southwest of MSP).

The coordinates for this airspace docket are based on North American Datum 83. Class B airspace areas are published in paragraph 3000 of FAA Order 7400.9N, Airspace Designations and Reporting Points, dated September 1, 2005, and effective September 15, 2005, which is incorporated by reference in 14 CFR 71.1. The Class B airspace area listed in this document would be published subsequently in the order.

The Rule

This action amends Title 14 Code of Federal Regulations (14 CFR) part 71 by modifying the MSP Class B airspace area. Specifically, this action (depicted on the attached chart) expands the upper limits of Areas A, B, C, and D from 8,000 feet MSL to and including 10,000 feet MSL; expands the lateral limits of Area D to the northwest and southeast of MSP; adds an Area E within 30 NM of the I-MSP DME (excluding areas to the north and south of MSP); and adds an area F to the south of MSP.

The FAA is taking this action to provide protection for the increased operations at MSP including operations to the new Runway 17/35. Additionally, this action enhances safety, improves the management of aircraft operations in the MSP terminal area, and supports the FAA's national airspace redesign goal of optimizing terminal and en route airspace areas to reduce aircraft delays and improve system capacity.

Regulatory Evaluation Summary

Changes to Federal regulations must undergo several economic analyses. First, Executive Order 12866 directs that each Federal agency shall propose or adopt a regulation only upon a reasoned determination that the benefits of the intended regulation justify its costs. Second, the Regulatory Flexibility Act requires agencies to analyze the economic effect of regulatory changes on small businesses and other small entities. Third, the Office of Management and Budget directs agencies to assess the effect of regulatory changes on international trade. In conducting these analyses, the FAA has determined that this final rule: (1) Will generate benefits that justify its circumnavigation costs and is not a “significant regulatory action” as defined in the Executive Order; (2) is not significant as defined in the Department of Transportation's Regulatory Policies and Procedures; (3) will not have a significant impact on a substantial number of small entities; (4) will not constitute a barrier to international trade; and (5) will not contain any Federal intergovernmental or private sector mandate. These analyses are summarized here in the preamble, and the full Regulatory Evaluation is in the docket.

This final rule will modify the Minneapolis, MN, Class B airspace area. The final rule will reconfigure the sub-area lateral boundaries, and raise the altitude ceiling in certain segments of the airspace.

The final rule will generate benefits for system users and the FAA in the form of enhanced operational efficiency and simplified navigation in the MSP terminal area. These modifications will impose some circumnavigation costs on operators of non-compliant aircraft operating in the area around MSP. However, the cost of circumnavigation is considered to be small. Thus, the FAA has determined this final rule will be cost-beneficial.

Final Regulatory Flexibility Determination

The Regulatory Flexibility Act of 1980 establishes “as a principle of regulatory issuance that agencies shall endeavor, consistent with the objective of the rule and of applicable statutes, to fit regulatory and informational requirements to the scale of the business, organizations, and governmental jurisdictions subject to regulation.” To achieve that principal, the Act requires agencies to solicit and consider flexible regulatory proposals and to explain the rationale for their actions. The Act covers a wide-range of small entities, including small businesses, not-for-profit organizations and small governmental jurisdictions.

Agencies must perform a review to determine whether a proposed or final rule will have a significant economic impact on a substantial number of small entities. If the determination is that it will, the agency must prepare a regulatory flexibility analysis (RFA) as described in the Act.

However, if an agency determines that a proposed or final rule is not expected to have a significant economic impact on a substantial number of small entities, section 605(b) of the 1980 Act provides that the head of the agency may so certify and an RFA is not required. The certification must include a statement providing the factual basis for this determination, and the reasoning should be clear.

This final rule may impose some circumnavigation costs on individuals operating in the Minneapolis terminal area, but the final rule will not impose any costs on small business entities. Operators of general aviation aircraft are not considered small business entities. As such, they are not included when performing a regulatory flexibility analysis. Flight schools are considered small business entities. However, the FAA assumes that they provide instruction in aircraft equipped to navigate in Class B airspace given they currently provide instruction in the Minneapolis terminal area. Therefore, these small entities should not incur any additional costs as a result of the final rule. Accordingly, pursuant to the Regulatory Flexibility Act, 5 U.S.C. 605(b), the Federal Aviation Administration certifies this rule will not have a significant economic impact on a substantial number of small entities.

International Trade Impact Assessment

The Trade Agreement Act of 1979 prohibits Federal agencies from engaging in any standards or related activities that create unnecessary obstacles to the foreign commerce of the United States (U.S.). Legitimate domestic objectives, such as safety, are not considered unnecessary obstacles. The statute also requires consideration of international standards and where appropriate, that they be the basis for U.S. standards.

The final rule will only have a domestic impact and will not affect trade opportunities for U.S. firms doing business overseas or for foreign firms doing business in the U.S.

Unfunded Mandates Assessment

The Unfunded Mandate Reform Act of 1995 (the Act) is intended, among other things, to curb the practice of imposing unfunded Federal mandates on State, local, and tribal governments. Title II of the Act requires each Federal agency to prepare a written statement assessing the effects of any Federal mandate in a proposed or final agency rule that may result in an expenditure of $100 million or more (adjusted annually for inflation) in any one year by State, local, and tribal governments, in the aggregate, or by the private sector. The FAA currently uses an inflation-adjusted value of $120.7 million in lieu of $100 million.

This final rule does not contain such a mandate. The requirements of Title II do not apply.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES, AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9N, Airspace Designations and Reporting Points, dated September 1, 2005, and effective September 15, 2005, is amended as follows:

Paragraph 3000—Class B Airspace.

* * * * *

AGL MN B Minneapolis, MN [Revised]

Minneapolis-St. Paul International (Wold-Chamberlain) Airport (Primary Airport)

(Lat. 44°53′00″ N., long. 93°13′01″ W.)

Gopher VORTAC

(Lat. 45°08′45″ N., long. 93°22′24″ W.)

Flying Cloud VOR/DME

(Lat. 44°49′33″ N., long. 93°27′24″ W.)

Minneapolis-St. Paul International (Wold-Chamberlain) Airport DME Antenna (I-MSP DME)

(Lat. 44°52′28″ N., long. 93°12′24″ W.)

Boundaries

Area A. That airspace extending upward from the surface to and including 10,000 feet MSL within a 6-mile radius of the I-MSP DME.

Area B. That airspace extending from 2,300 feet MSL to and including 10,000 feet MSL within an 8.5-mile radius of the I-MSP DME, excluding Area A previously described.

Area C. That airspace extending from 3,000 feet MSL to and including 10,000 feet MSL within a 12-mile radius of the I-MSP DME, excluding Area A and Area B previously described.

Area D. That airspace extending from 4,000 feet MSL to and including 10,000 feet MSL within a 20-mile radius of the I-MSP DME and including that airspace within a 30-mile radius from the Flying Cloud 295° radial clockwise to the Gopher 295° radial and from the Gopher 115° radial clockwise to the Flying Cloud 115° radial, excluding Area A, Area B, and Area C previously described.

Area E. That airspace extending from 7,000 feet MSL to and including 10,000 feet MSL within a 30-mile radius of the I-MSP DME from the Gopher 295° radial clockwise to the Gopher 352° radial, and from the Gopher 085° radial clockwise to the Gopher 115° radial, and from the Flying Cloud 115° radial clockwise to the Gopher 160° radial, and from the Gopher 170° radial clockwise to the Flying Cloud 295° radial excluding that airspace between a 25-mile radius and a 30-mile radius of the I-MSP DME from the Flying Cloud 115° radial clockwise to the Gopher 160° radial, and excluding Area A, Area B, Area C, and Area D previously described.

Area F. That airspace extending from 6,000 feet MSL to and including 10,000 feet MSL within a 30-mile radius of the I-MSP DME from the Gopher 160° radial clockwise to the Gopher 170° radial, excluding Area A, Area B, Area C, and Area D previously described.

* * * * *

Issued in Washington, DC, on November 16, 2005.
Edith V. Parish,
Manager, Airspace and Rules.

BILLING CODE 4910-13-P

[FR Doc. 05-23308 Filed 11-25-05; 8:45 am]

BILLING CODE 4910-13-C